NUCLEAR REGULATORY COMMISSION

Office of New Reactors; Interim Staff Guidance on the Necessary Content of Plant-Specific Technical Specifications for a Combined License

AGENCY: Nuclear Regulatory Commission (NRC).

ACTION: Solicitation of public comment.

SUMMARY: The NRC is soliciting public comment on its proposed Interim Staff Guidance (ISG) DC/COL-ISG-08 (ADAMS Accession No. ML082520707). The purpose of this ISG is to change the NRC staff position on the necessary content of plant-specific technical specifications (PTS) when a combined license (COL) is issued. This ISG clarifies the staff guidance contained in Regulatory Guide (RG) 1.206, “Combined License Applications for Nuclear Power Plants,” Section C.III.4.3, “Combined License Information Items That Cannot Be Resolved Before the Issuance of a License,” and replaces the related guidance in NUREG-0080, “Standard Review Plan for the Review of Safety Analysis Reports for Nuclear Power Plants,” Chapter 16.0, “Technical Specifications,” Revision 2, dated March 2007, regarding the content of PTS to support issuing a COL. The NRC staff issues DC/COL-ISGs to facilitate timely implementation of the current staff guidance and to facilitate activities associated with the review of applications for standard design certifications (DCs) and COLs by the Office of New Reactors. The NRC staff will also incorporate the approved DC/COL-ISG-08 into the next revisions of RG 1.206 and the Standard Review Plan 16.0, and any related guidance documents.

DATES: Comments must be filed no later than 30 days from the date of publication of this notice in the Federal Register. Comments received after this date will be considered, if it is practical to do so, but the Commission is able to ensure consideration only for comments received on or before this date.

ADDRESSES: Comments may be submitted to: Chief, Rules and Directives Branch, Office of Administration, U.S. Nuclear Regulatory Commission, Washington, DC 20555-0001. Comments should be delivered to: 11545 Rockville Pike, Rockville, Maryland, Room T-6D59, between 7:30 a.m. and 4:15 p.m. on federal workdays. Persons may also provide comments via e-mail at michael.marshall@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr@nrc.gov.

FOR FURTHER INFORMATION CONTACT: Mr. Michael L. Marshall, Technical Specification Branch, Division of Construction, Inspection, Operational Programs, Office of the New Reactors, U.S. Nuclear Regulatory Commission, Washington, DC 20555-0001; telephone 301-415-0539 or e-mail at michael.marshall@nrc.gov.

SUPPLEMENTARY INFORMATION: The agency posts its issued staff guidance in the agency external Web page (http://www.nrc.gov/reading-rm/doc-collections/isg/).

The NRC staff is issuing this notice to solicit public comments on the proposed DC/COL-ISG-08. After the NRC staff considers any public comments, it will make a determination regarding the proposed DC/COL-ISG-08.

Dated at Rockville, Maryland, this 8th day of October 2008.
For the Nuclear Regulatory Commission,
William D. Reckley,
Chief, Rulemaking, Guidance and Advanced Reactors Branch, Division of New Reactor Licensing, Office of New Reactors.

[FR Doc. E8-24624 Filed 10-15-08; 8:45 am]

BILLING CODE 7590-01-P